DEPARTMENT OF THE INTERIOR

Fish and Wildlife Service

Notice of Intent To Prepare a Comprehensive Conservation Plan and Associated NEPA Document for the Stone Lakes National Wildlife Refuge and Notice of Public Open Houses

AGENCY: Fish and Wildlife Service, Department of the Interior.

ACTION: Notice of Intent to Prepare a Comprehensive Conservation Plan and Associated National Environmental Policy Act Document for the Stone Lakes National Wildlife Refuge, Sacramento County, California and Notice of Public Open Houses.

SUMMARY: The Fish and Wildlife Service (Service) is preparing a Comprehensive Conservation Plan (CCP) and National Environmental Policy Act (NEPA) document for Stone Lakes National Wildlife Refuge (refuge). This notice advises the public that the Service intends to gather information necessary to prepare a CCP and environmental documents pursuant to the National Wildlife Refuge System Administration Act of 1966, as amended, and NEPA. The public is invited to participate in the planning process. The Service is furnishing this notice in compliance with the Service CCP policy to: advise other agencies and the public of our intentions; obtain suggestions and information on the scope of issues to include in the environmental documents; and announce a series of public scoping meetings to occur in September and October 2002. See SUPPLEMENTARY INFORMATION for meeting information.

DATES: To ensure that the Service has adequate time to evaluate and incorporate suggestions and other input into the planning process, comments should be received within 30 days from the date of this notice.

ADDRESSES: Send written comments or requests to be added to the mailing list to: Planning Team Leader—Stone Lakes NWR, California/Nevada Refuge Planning Office, U.S. Fish and Wildlife Service, 2800 Cottage Way, W-1916, Sacramento, California 95825.

FOR FURTHER INFORMATION CONTACT: Address comments and requests for additional information to: Mr. Miki Fujitsubo, Planning Team Leader, (916) 414-6507.

SUPPLEMENTARY INFORMATION: The Stone Lakes National Wildlife Refuge is in southern Sacramento County, California, adjacent to the community of Elk Grove. The refuge is situated within the Morrison Creek, Cosumnes River, and Mokelumne River watersheds, and the Sacramento-San Joaquin River Delta (Delta).

The beginnings of the refuge started in the early 1970s with the recognition of the importance of the Stone Lakes Basin floodplain by the State of California and the County of Sacramento. There was strong support for a refuge because the unique lakes and waterways of the basin are entirely within the 100-year floodplain. The basin also occupies a strategic location for buffering urban encroachment into the Delta.

The refuge boundary was established in 1992 and with its first land acquisition in 1994 was officially designated the 505th unit in the National Wildlife Refuge System. The approved refuge boundary is 18,000 acres with the refuge currently owning or managing more than 4,000 acres.

The National Wildlife Refuge System Administration Act of 1966, as amended, mandates that all lands within the National Wildlife Refuge System are to be managed in accordance with an approved CCP. The CCP will guide management decisions and identify refuge goals, long-range objectives and management strategies for achieving refuge purposes. The planning process will consider many elements, including habitat and wildlife management, habitat protection, cultural resources, and environmental effects. Public input into this planning process is very important and encouraged. The CCP will provide other agencies and the public with a clear understanding of the desired conditions for the refuges and how the Service will implement management strategies.

The Service is soliciting information from the public via written comments. The Service will send out special mailings, newspaper articles, and announcements to people who are interested in the refuge. These mailings will provide information on how to participate in public involvement for the CCP. Comments received will be used to develop goals, key issues, and habitat management strategies. Additional opportunities for public participation will occur throughout the process. Data collection has been initiated to create computerized mapping, including vegetation, topography, habitat types and existing land uses.

Public open houses have been scheduled for the following dates and locations. All meeting times are from 7 p.m. to 9 p.m.

1. Monday, September 16, 2002, at the Elk Grove Community Services District Board Room, 8820 Elk Grove Blvd., Elk Grove, CA 95624.

2. Thursday, September 26, 2002, at the Clunie Community Center (Auditorium)—McKinnley Park, 601 Alhambra Blvd., Sacramento, CA 95816.

3. Wednesday, October 2, 2002, at the Jean Harvie Community Center, 14273 River Road, Walnut Grove, CA 95690.

4. Thursday, October 10, 2002, at the Veterans' Memorial Center—(Club Room), 203 East 14th Street—(corner of 14th & B Street), Davis, CA 95616.

The outcome of this planning process will be a CCP to guide the refuge management for the next 15 years. We have estimated that a draft CCP and NEPA document will be made available for public review in early 2004.

Dated: August 19, 2002.
Ken McDermond,
Acting California/Nevada Operations Manager, U.S. Fish and Wildlife Service, Sacramento, California.

[FR Doc. 02-21604 Filed 8-23-02; 8:45 am]

BILLING CODE 4310-55-P